DEPARTMENT OF HEALTH AND HUMAN SERVICES

Indian Health Service

Request for Public Comment: 30-Day Proposed Information Collection: Indian Health Service; HIV Knowledge/Attitudes/Practice Customer Survey

Correction

In notice document E8-30329 beginning on page 78375 in the issue of Monday, December 22, 2008, make the following corrections:

1. On page 78375, in the third column, under Proposed Collection, in the sixth line “IRS” should read “IHS”.

2. On the same page, in the same column, in the same paragraph, six lines from the bottom “IRS” should read “IHS”.

3. On the same page, in the same column, in the last paragraph, five lines from the bottom “AIIAN” should read “AI/AN”.

4. On the same page, in the same column, in the same paragraph, four lines from the bottom “lETS” should read “IHS”.

[FR Doc. Z8-30329 Filed 1-14-09; 8:45 am]

BILLING CODE 1505-01-D